ENVIRONMENTAL PROTECTION AGENCY

40 CFR Part 141

[EPA-HQ-OW-2020-0486; FRL-10015-26-OW]

Microbial and Disinfection Byproducts Rules: Public Meeting To Inform Potential Rule Revisions

AGENCY: Environmental Protection Agency (EPA).

ACTION: Notice of public meeting.

SUMMARY: The Safe Drinking Water Act (SDWA) requires the U.S. Environmental Protection Agency (EPA) to review each national primary drinking water regulation (NPDWR) at least once every six years. As part of the “Six-Year Review”, EPA evaluates any newly available data, information, and technologies to determine if any regulatory revisions are needed. During the Agency's third Six-Year Review (Six-Year Review 3) eight NPDWRs were identified as candidates for potential regulatory revision. EPA is hosting a public meeting on October 14 and 15, 2020, to seek public input on the Agency's potential regulatory revisions of these eight NDPWRs including: Chlorite, Cryptosporidium, Haloacetic acids, Heterotrophic bacteria, Giardia lamblia, Legionella, Total Trihalomethanes, and Viruses. The eight NPDWRs are included in the following Microbial and Disinfection Byproduct (MDBP) rules: Stage 1 and Stage 2 Disinfectants and Disinfection Byproducts Rules, Surface Water Treatment Rule, Interim Enhanced Surface Water Treatment Rule, and Long Term 1 Enhanced Surface Water Treatment Rule. At this meeting, EPA is seeking public input on information and perspectives related to the potential regulatory revisions. EPA will consider the data and/or information discussed at this meeting, as well as at future stakeholder engagements, in its determination on whether a rulemaking to revise any MDBP regulations should be initiated. For more information on the meeting visit the EPA's Revisions of the MDBP Rules website: www.epa.gov/dwsixyearreview/revisions-microbial-and-disinfection-byproducts-rules and go to the SUPPLEMENTARY INFORMATION section of this document.

DATES: The public meetings will be held on Wednesday, October 14, 2020 (11 a.m. to 5 p.m., Eastern Time), and Thursday, October 15, 2020 (11 a.m. to 4:30 p.m., Eastern Time).

ADDRESSES: The public meetings will be held in an online-only format in the Online Meeting section of this document.

FOR FURTHER INFORMATION CONTACT: For technical inquiries, contact Ashley Greene, Standards and Risk Management Division, Office of Ground Water and Drinking Water (MC 4607M), Environmental Protection Agency, 1200 Pennsylvania Ave. NW, Washington, DC 20460 at (202) 566-1738 or greene.ashley@epa.gov. For more information about the MDBP revisions or the Six-Year Review process, visit: www.epa.gov/dwsixyearreview/revisions-microbial-and-disinfection-byproducts-rules or www.epa.gov/dwsixyearreview, respectively.

SUPPLEMENTARY INFORMATION: Registration: Individuals planning to participate in the online public meeting must register at this website www.epa.gov/dwsixyearreview/public-meeting-revisions-microbial-and-disinfection-products-rules no later than October 12, 2020. EPA will do its best to include all those interested, however, may need to limit attendance due to web conferencing size limitations and, therefore, urges potential attendees to register early. Please check the MDBP website for event materials as they become available, including a full meeting agenda and other meeting materials. Web conferencing meeting details will be emailed to registered participants in advance of the meeting. If you have any difficulty registering or have additional questions or comments about the public meeting, please email (MDBPRevisions@epa.gov).

Special Accommodations: For information on access or accommodations for individuals with disabilities, please contact Ashley Greene at (202) 566-1738 or by email at greene.ashley@epa.gov. Please allow at least five business days prior to the meeting to give EPA time to process your request.

Online Meeting: This online meeting will be open to the public and EPA encourages input and will provide opportunities for public engagement. Additionally, the public will have the opportunity to provide written public input. If you are unable to participate in the meetings, you will be able to submit comments at www.regulations.gov, Docket ID No. EPA-HQ-OW-2020-0486. Meeting attendees are also encouraged to send written statements to the public docket, as well as any scientific data they would like EPA to consider during its analysis of potential regulatory revisions. Follow the online instructions for submitting comments. Once submitted, comments cannot be edited or withdrawn. EPA may publish any comment received to its public docket. Do not submit electronically any information you consider to be Confidential Business Information (CBI) or other information whose disclosure is restricted by statute. Multimedia submissions (audio, video, etc) must be accompanied by written comment. The written comment is considered the official comment and should include discussion of all points you wish to make. EPA will generally not consider comments outside of the primary submission (i.e., on the web, cloud, ot other file sharing system). For additional submission methods, the full EPA public comment policy, information about CBI or multimedia submissions, and general guidance on making effective comments, please visit http://www2.epa.gov/dockets/commenting-epa-dockets.

The Microbial and Disinfection Byproduct (MDBP) Rules: MDBP rules are a series of interrelated regulations that address risks from microbial pathogens and disinfectants/disinfection byproducts in drinking water. The purpose of the Surface Water Treatment Rules (SWTRs) within the scope of the potential regulatory revisions, including the Surface Water Treatment Rule (40 CFR 141.70-141.75; June 5, 1989), Interim Enhanced Surface Water Treatment Rule (40 CFR 141.170-141.175; December 16, 1998), and Long Term 1 Enhanced Surface Water Treatment Rule (40 CFR 141.500-141.571; January 5, 2002), are to reduce disease incidence associated with pathogens, including Cryptosporidium, Giardia lamblia, Legionella, and viruses in drinking water. The SWTRs require PWS to filter and disinfect surface water sources to provide protection from microbial pathogens. The purpose of the Stage 1 and Stage 2 Disinfectants and Disinfection Byproducts Rules (63 FR 69390; December 16, 1998 and 71 FR 388; January 3, 2006, respectively) are to reduce drinking water exposure to disinfection byproducts which can form in water when disinfectants used to control microbial pathogens react with naturally occurring materials found in source water. If consumed in excess of EPA's standard over many years, disinfection byproducts may increase health risks. On January 11, 2017 (82 FR 3518; January 11, 2017) EPA identified these MDBP rules as candidates for revision in the Agency's review of existing national primary drinking water regulations.

Jennifer L. McLain,
Director, Office of Ground Water and Drinking Water.

[FR Doc. 2020-21653 Filed 9-29-20; 8:45 am]

BILLING CODE 6560-50-P